MILLENNIUM CHALLENGE CORPORATION

[MCC FR 19-09]

Notice of Open Meeting

AGENCY: Millennium Challenge Corporation.

ACTION: Notice.

SUMMARY: In accordance with the requirements of the Federal Advisory Committee Act, the Millennium Challenge Corporation (MCC) Economic Advisory Council was established as a discretionary advisory committee on October 5, 2018. The MCC Economic Advisory Council serves MCC in an advisory capacity only and provides advice and guidance to MCC economists, evaluators, leadership of the Department of Policy and Evaluation, and senior MCC leadership regarding relevant trends in development economics, applied economic and evaluation methods, poverty analytics, as well as modeling, measuring, and evaluating development interventions. In doing so, an overarching purpose of the MCC Economic Advisory Council is to sharpen MCC's analytical methods and capacity in support of continuing development effectiveness. It also serves as a sounding board and reference group for assessing and advising on strategic policy innovations and methodological directions in MCC.

DATES: Friday, November 1st, 2019, from 9:00 a.m.-2:00 p.m. EDT which includes a break for lunch.

ADDRESSES: The meeting will be held at the Millennium Challenge Corporation, 1099 14th St. NW, Suite 700 Washington, DC 20005.

FOR FURTHER INFORMATION CONTACT: Brian Epley, 202.772.6515 MCCEACouncil@mcc.gov or visit www.mcc.gov/about/org-unit/economic-advisory-council.

SUPPLEMENTARY INFORMATION:

Agenda. During this meeting of the MCC Economic Advisory Council, members will be provided an overview of MCC's work and the context and function of the MCC Economic Advisory Council within MCC's mission, including amendments to the bylaws for the MCC Economic Advisory Council and a determination of a chairperson. The MCC Economic Advisory Council will also discuss issues related to MCC's core functions, including the following topics: (i) Balancing cost-recovery and social objectives with user charges and tariff policy; (ii) improving early beneficiary analysis to inform investment decision-making; and (iii) opportunities and challenges in MCC's use of results-based financing.

Public Participation: The meeting will be open to the public. Members of the public may file written statement(s) before or after the meeting. If you plan to attend, please submit your name and affiliation no later than Wednesday, October 30, 2019 to MCCEACouncil@mcc.gov to be placed on an attendee list.

Dated: October 11, 2019.
Jeanne M. Hauch,
VP/General Counsel and Corporate Secretary.

[FR Doc. 2019-22671 Filed 10-16-19; 8:45 am]

BILLING CODE 9211-03-P